NATIONAL ARCHIVES AND RECORDS ADMINISTRATION

Agency Information Collection Activities: Proposed Collection; Comment Request

AGENCY: National Archives and Records Administration (NARA).

ACTION: Notice.

SUMMARY: NARA is giving public notice that the agency proposes to request extension of two currently approved information collections. The information collections are used in the National Historical Publications and Records Commission (NHPRC)'s grant program for subvention of part of the costs of manufacturing and distributing volumes published by NHPRC-supported documentary editorial projects. One of the NHPRC information collections is a grant application prepared by university and other non-profit presses applying for a subvention grant. The other NHPRC information collection is a sales report made by a non-profit press which has received a subvention grant from the NHPRC. The public is invited to comment on the proposed information collections pursuant to the Paperwork Reduction Act of 1995.

DATES: Written comments must be received on or before December 29, 2003 to be assured of consideration.

ADDRESSES: Comments should be sent to: Paperwork Reduction Act Comments (NHP), Room 4400, National Archives and Records Administration, 8601 Adelphi Rd, College Park, MD 20740-6001; or faxed to 301-837-3213; or electronically mailed to tamee.fechhelm@nara.gov.

FOR FURTHER INFORMATION CONTACT: Requests for additional information or copies of the proposed information collections and supporting statements should be directed to Tamee Fechhelm at telephone number (301) 837-1694, or fax number (301) 837-3213.

SUPPLEMENTARY INFORMATION: Pursuant to the Paperwork Reduction Act of 1995 (Public Law 104-13), NARA invites the general public and other Federal agencies to comment on proposed information collections. The comments and suggestions should address one or more of the following points: (a) Whether the proposed information collections are necessary for the proper performance of the functions of NARA; (b) the accuracy of NARA's estimate of the burden of the proposed information collections; (c) ways to enhance the quality, utility, and clarity of the information to be collected; and (d) ways to minimize the burden of the collection of information on respondents, including the use of information technology. The comments that are submitted will be summarized and included in the NARA request for Office of Management and Budget (OMB) approval. All comments will become a matter of public record. In this notice, NARA is soliciting comments concerning the following information collections:

1. Title: NHPRC Subvention Grant Guidelines and Application.

OMB number: 3095-0021.

Agency form number: N/A.

Type of review: Regular.

Affected public: Universities and non-profit presses.

Estimated number of respondents: 10.

Estimated time per response: 7 hours.

Frequency of response: On occasion. On the average, a press submits two-and-a-half subvention applications per year.

Estimated total annual burden hours: 70 hours.

Abstract: The information collection is prescribed by 36 CFR 1206. The application is submitted by university and other non-profit presses applying to the NHPRC grant program for subvention of part of the costs of manufacturing and distributing volumes published by NHPRC-supported editorial projects.

2. Title: NHPRC Annual Sales Reports for Subvention Grants.

OMB number: 3095-0022.

Agency form number: None.

Type of review: Regular.

Affected public: Non-profit presses that have received an NHPRC subvention grant.

Estimated number of respondents: 10.

Estimated time per response: 3 hours.

Frequency of response: One time only. On the average, a press has two on-going subvention grants and therefore submits two sales reports per year.

Estimated total annual burden hours: 30 hours.

Abstract: The information collection is prescribed by 36 CFR 1206. The sales information provided by non-profit presses is used by Commission staff to gauge interest among scholars and the general public in documentary editions supported by Commission grants.

Dated: October 20, 2003.
L. Reynolds Cahoon,
Assistant Archivist for Human Resources and Information Services.

[FR Doc. 03-27195 Filed 10-28-03; 8:45 am]

BILLING CODE 7515-01-P